ENVIRONMENTAL PROTECTION AGENCY

[FRL-6925-3]

Proposed CERCLA Prospective Purchaser Agreement for the Old Roosevelt Field Contaminated Groundwater Area Superfund Site, Garden City, Nassau County, NY

AGENCY: Environmental Protection Agency (EPA).

ACTION: Notice; request for public comment.

SUMMARY: Consistent with EPA's May 24, 1995 “Guidance on Agreements with Prospective Purchasers of Contaminated Property,” notice is hereby given of a proposed prospective purchaser agreement (“Agreement”) with Treeline Garden City Plaza, LLC (“Treeline”) concerning real property within the Old Roosevelt Field Contaminated Groundwater Area Superfund Site, Garden City, Nassau County, New York (the “Property”). Under the Agreement, Treeline will make a payment of $400,000 to the Hazardous Substances Superfund and provide other consideration to EPA in exchange for a covenant not to sue pursuant to sections 106 and 107(a) of CERCLA, 42 U.S.C. 9606 and 9607(a). By publication of this Notice, a fifteen (15) day period has been established in which the United States will accept written comments relating to the Agreement. The United States will consider all comments received and may modify or withdraw its consent to the Agreement if comments received disclose facts or considerations which indicate that the Agreement is inappropriate, improper, or inadequate. The United States' response to any comments received will be available for public inspection at the U.S. Environmental Protection Agency, Region II, Superfund Records Center, 290 Broadway, 18th Floor, New York, NY 10007-1866.

DATES: Comments must be submitted on or before January 12, 2001.

ADDRESSES: The proposed Agreement is available for public inspection at the U.S. Environmental Protection Agency, Region II, Superfund Records Center, 290 Broadway, 18th Floor, New York, NY 10007-1866. A copy of the proposed Agreement may also be obtained from the individual listed below. Comments should reference the Old Roosevelt Field Contaminated Groundwater Area Superfund Site, Garden City, Nassau County, New York and EPA Index No. CERCLA-02-2001-2010, and should be addressed to the individual listed below.

FOR FURTHER INFORMATION CONTACT: Elizabeth Leilani Davis, Assistant Regional Counsel, New York/Caribbean Superfund Branch, Office of Regional Counsel, U.S. Environmental Protection Agency, Region II, 290 Broadway, 17th Floor, New York, NY 10007-1866, Telephone: (212) 637-3249.

Dated: December 21, 2000.
William J. Muszynski,
Acting Regional Administrator, Region II.

[FR Doc. 00-33269 Filed 12-26-00; 12:17 pm]

BILLING CODE 6560-50-P